DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: National Practitioner Data Bank and Healthcare Integrity and Protection Data Bank Market Surveys and Survey of Use of Data Bank Information by Queriers: NEW

The purpose of these surveys is to conduct a follow-up study to the National Practitioner Data Bank (NPDB) User and Non-User Surveys of 2001. In addition, Healthcare Integrity and Protection Data Bank (HIPDB) users and non-sers will be included in this study. The study will evaluate the effectiveness of the NPDB and the HIPDB as flagging systems, sources of information, and decisionmaking tools. It will also determine user satisfaction with the process, use, and information provided by the NPDB and HIPDB.

Surveys will be administered to entities that report to and/or query the NPDB and HIPDB, including users who query either the NPDB and/or HIPDB and who receive a “match”, i.e. copies of adverse actions concerning a queried practitioner. A sample of Queriers who received a matched response will be surveyed about the information received. NPDB and HIPDB non-users will also be surveyed. Eligible NPDB and HIPDB users will be asked to complete a Web-based Internet survey or a computer-assisted telephone interview (CATI). NPDB and HIPDB non-users will complete either a Web or CATI, or will be transferred to an interactive voice response (IVR) system during the CATI to complete the survey.

Data gathered from the survey will be compared with similar information from previous surveys of users and non-users and will provide HRSA with the information necessary to improve the usability of the NPDB and HIPDB.

The estimate of burden is as follows:

Respondents | Respondent description | Number of respondents | Responses per respondent | Total responses | Hours per response | Total burden (hours)
NPDB Users Group Survey | Malpractice Payers Licensing Boards | 228 90 | 1 1 | 228 90 | .25 .25 | 57 22.5
| Hospitals (Reporting) | 466 | 1 | 466 | .25 | 116.5
| Hospitals (Querying) | 994 | 1 | 994 | .25 | 248.5
| MCOs | 900 | 1 | 900 | .25 | 225
| Other HCEs (Reporting) | 57 | 1 | 57 | .25 | 14.25
| Other HCEs (Querying) | 976 | 1 | 976 | .25 | 244
HIPDB Users Group Survey | Licensing Boards Government Hospitals | 231 390 | 1 1 | 231 390 | .25 .25 | 57.75 97.5
| MCOs | 580 | 1 | 580 | .25 | 145
| Other HCEs | 260 | 1 | 260 | .25 | 65
NPDB Matched Response Survey | Licensing Boards Hospitals | 55 984 | 3 3 | 165 2952 | .1 .1 | 16.5 295.2
| MCOs | 848 | 3 | 2544 | .1 | 254.4
| Other HCEs | 904 | 3 | 2712 | .1 | 271.2
HIPDB Matched Response Survey | Licensing Boards Hospitals | 43 202 | 3 3 | 129 606 | .1 .1 | 12.9 60.6
| MCOs | 432 | 3 | 1296 | .1 | 129.6
| Other HCEs | 87 | 3 | 261 | .1 | 26.1
NPDB Non-User Survey | Licensing Boards MCOs | 213 341 | 1 1 | 213 341 | .16 .16 | 34.1 54.6
| Other HCEs | 881 | 1 | 881 | .16 | 141
HIPDB Non-User Survey | Licensing Boards MCOs | 30 411 | 1 1 | 30 411 | .16 .16 | 4.8 76.3
| Other HCEs | 974 | 1 | 974 | .16 | 155.8
Total |  | 11,577 |  | 18,687 |  | 2,826.1

Written comments and recommendations concerning the proposed information collection should be sent within 30 days of this notice to the desk officer for HRSA, either by e-mail to OIRA_submission@omb.eop.gov or by fax to 202-395-6974. Please direct all correspondence to the “attention of the desk officer for HRSA.”

Dated: August 15, 2007.
Alexandra Huttinger,
Acting Director, Division of Policy Review and Coordination.

[FR Doc. E7-16371 Filed 8-20-07; 8:45 am]

BILLING CODE 4165-15-P